DEPARTMENT OF HEALTH AND HUMAN SERVICES

Centers for Disease Control and Prevention

Steps to a HealthierUS: National Organization Partnerships; Notice of Availability of Funds

Announcement Type: New.

Funding Opportunity Number: 04134.

Catalog of Federal Domestic Assistance Number: 93.283.

Key Dates:

Letter of Intent Deadline: May 14, 2004.

Application Deadline: June 8, 2004.

Executive Summary: In June 2002, the President of the United States launched his HealthierUS initiative, which highlights the influence that healthy lifestyles and behaviors—such as making healthful nutritional choices, being physically active, and avoiding tobacco use and exposure—have in achieving and maintaining good health for persons of all ages. In response, the Secretary of the Department of Health and Human Services created the Steps to a HealthierUS Initiative (hereafter referred to as the Steps Initiative). Steps Initiative activities include national roundtables, conferences, publications, and public-private partnership opportunities.

The centerpiece of the Steps Initiative is a five-year cooperative agreement program (hereafter referred to as the Steps Community Program or Steps Communities). This program funds communities to improve the lives of Americans through innovative and effective community-based health promotion and chronic disease prevention and control programs. Steps Communities work through public-private partnerships to support community-driven programs enabling persons to adopt healthy lifestyles that contribute directly to the prevention, delay, and mitigation of the consequences of diabetes, asthma, and obesity. Steps Communities are implementing community action plans that target diverse populations including: Border populations, Hispanics and Latinos, Native Americans, African-Americans, Asians, immigrants, low-income populations, people with disabilities, children and youth, senior citizens, people who are uninsured/underinsured and people at high risk or diagnosed with obesity, diabetes, and asthma. Funded communities under the Steps initiative are incorporating multiple activities within their communities. Examples of community activities include, but are not limited to: The development of a multifaceted promotional campaign on the “5 A Day for Better Health Program”; conducting diabetes education and self-management classes at community sites; implementation of school policies on tobacco use and tribal school nutrition programs.

The Centers for Disease Control, National Center for Chronic Disease Prevention and Health Promotion (NCCDPHP) is charged by the Department of Health and Human Services (DHHS) to implement the Steps Community Program in collaboration with all relevant HHS agencies and staff divisions. The relevant HHS agencies and offices include, but are not limited to, the Administration for Children and Families, Administration on Aging, Agency for Healthcare Research and Quality, CDC, Centers for Medicare and Medicaid Services, Food and Drug Administration, Health Resources and Services Administration, Indian Health Service, National Institutes of Health, Office of Disease Prevention and Health Promotion, and the Substance Abuse and Mental Health Services Administration hereafter referred to as “HHS agencies”.

I. Funding Opportunity Description

Authority: This program is authorized under section 301(a) and 317(k)(2) of the Public Health Service Act, (42 U.S.C. sections 241(a) and 247b(k)(2)), as amended.

Purpose: The purpose of the program is to fund one or more national organizations to develop and implement strategies for effective collaborative action, program development and policy education to supplement the President of the United States' Initiative for Americans entitled HealthierUS and the Secretary of Health and Human Services' initiative for Americans entitled Steps to a HealthierUS. The national organization(s) will assist Steps Communities in support of their efforts to aid Americans in living longer, better, and healthier lives by reducing the burden of diabetes, obesity, and asthma and addressing three related risk factors—physical inactivity, poor nutrition, and tobacco use.

Measurable outcomes of the program will be in alignment with one or more of the performance goal(s) for the Steps initiative's goals:

• Prevent 75,000 to 100,000 Americans from developing diabetes;

• Prevent 100,000 to 150,000 Americans from developing obesity;

• Prevent 50,000 Americans from being hospitalized for asthma.

The performance goal for this cooperative agreement is to enhance the capacity of Steps Communities to successfully implement their Community Action Plan within these larger initiative goals.

Grantee Activities

Awardee activities for this program are as follows: Awardee(s) shall undertake one of the following priority areas each year of a four-year program period:

Priority 1: Policy Academies.

• Conduct four regional policy academies for Steps Communities. The national organization(s) will develop and conduct one regional policy academy each year of the project period (total of 4 academies). The academies will focus on the development and implementation of community-level strategies to support public actions that encourage and support healthier living. Awardee(s) must coordinate with state, local and other groups conducting similar activities for which funds are awarded.

• The Policy Academy will offer funded communities a role in a shared learning system that will provide the foundation for public policy innovation that fosters improved performance. The Policy Academy will provide technical assistance and workshops to aid communities with their Community Action Plans. Examples of what participants in the Policy Academy will accomplish are: narrowing their priorities, defining outcomes that will move their priorities forward, formulating sustainable plans to achieve outcomes, and aiding in the implementation and measurement of their plans. The primary audiences for participation in the academies are the funded Steps Communities. Additional communities in the region can be invited as space and resources allow.

Priority 2: Support Local Chapters in Steps Communities.

• Support the national organizations' local chapters/affiliates in Steps Communities to participate fully in the local Steps Action Plan. The funded organization(s) should collaborate with other organizations and partners in the Steps Communities to support the established Steps Action Plan. The organization should solicit letters of support from currently funded Steps Communities (Appendix A).

• The national organization will provide capacity building assistance to the local chapters/affiliates to improve the Steps Program's ability to encourage community members to become more active, and eat better.

• The organization will be responsible for collaborating with partners that include but are not limited to: Community-based organizations, faith-based organizations, and educational institutions to promote active lifestyles and create awareness to address factors contributing to obesity, asthma, and diabetes. These activities should include but not be limited to community programs that focus on improved fitness and health promotion and/or after-school programs.

• Applicants must provide plans for program coordination with the existing Steps Community Programs. Such coordination must include definition of roles at the community level, actions to integrate the program into the existing activities of the Steps Community Program and avoid duplication with state health agencies. Additionally, the applicant must provide a management plan, which describes the local organizational structure, the range of programs available, targeting strategies, and efforts to sustain the programs. All recipient activities in this section must be done in full coordination and collaboration with the local Steps Community Coalition and Leadership Team. Examples of the types of activities that the funded organization might choose to develop within the Steps communities include:

• Develop, implement, and evaluate an innovative program that addresses identified need(s) within the communities funded under the Steps initiative.

• Develop and implement an effective strategy for marketing services to increase public awareness of the Steps Community Program.

• Implement a quality assurance strategy that ensures the delivery of high quality prevention services for one or more elements of the Steps Community Action Plan.

• Develop and implement effective community polices, or facilitate their development and implementation.

• Convene forums or town hall meetings or events for public education and outreach.

• Develop educational materials for local Steps Community activities.

• Provide after school physical activity and health education programs.

In addition to one of the above priorities, the funded organization must conduct all of the following activities:

• Collaborate with CDC, key partners and other entities to plan and deliver appropriate activities consistent with science-based evidence.

• Conduct both process and outcome evaluation to determine if annual action plan objectives were met to measure effectiveness of major activities.

• Provide at least one full-time employee(s) to direct and coordinate proposed activities and additional staff as needed.

In a cooperative agreement, HHS staff is substantially involved in the program activities, above and beyond routine grant monitoring. Thus, HHS Activities for this program are as follows:

• Advise the funded organization of priorities to be considered at the annual regional policy academies.

• Provide consultation and technical assistance in the planning, implementation and evaluation of program activities.

• Provide up-to-date information that includes diffusion of best practices and current research and data related to the Steps initiative.

• Facilitate communication and activities among organizations including holding meetings, conferences and conference calls.

• Assist in planning workshops, trainings and skill building to increase capacity to understand and address issues and implement program activities.

• Support the development and maintenance of communications and foster the transfer of information and successful program models between the funded Steps Communities and the funded National Partner Organizations.

II. Award Information

Type of Award: Cooperative Agreement. CDC involvement in this program is listed in the Activities Section.

Fiscal Year Funds: 2004.

Approximate Total Funding: $500,000.

Approximate Number of Awards: 1-2.

Approximate Average Award: $500,000 (This amount is for the first 12-month budget period, and includes both direct and indirect costs).

Floor of Award Range: None.

Ceiling of Award Range: $500,000 (This ceiling is for the first 12-month budget period. If additional funding becomes available in future years, this ceiling may increase for years two, three, and four.)

Anticipated Award Date: September 1, 2004.

Budget Period Length: 12 months.

Project Period Length: 4 years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit organizations with a national reach such as:

• Public nonprofit organizations;

• Private nonprofit organizations;

• Community-based organizations;

• Faith-based organizations.

III.2. Cost Sharing or Matching

Matching funds are not required for this program.

III.3. Other Eligibility Requirements

If you request a funding amount greater than the ceiling of the award range, your application will be considered non-responsive and will not be entered into the review process. You will be notified that your application did not meet the submission requirements.

If your application is incomplete or non-responsive to the requirements listed in this section, it will not be entered into the review process. You will be notified that your application did not meet submission requirements.

Applicant organization(s) must submit evidence that they can operate a nationally recognized program focusing on one or more of the six focus areas of Steps (diabetes, obesity, asthma, physical activity, nutrition, or tobacco). Eligible applicant organizations must be able to operate at local levels, as evidenced by having chapters or affiliates in at least 85% of states and at least 1500 communities nationwide.

Note: Title 2 of the United States Code section 1611 states that an organization described in section 501(c)(4) of the Internal Revenue Code (Title 26) that engages in lobbying activities is not eligible to receive Federal funds constituting an award, grant, or loan.

IV. Application and Submission Information

IV.1. Address To Request Application Package

To apply for this funding opportunity use application form CDC 1246 or PHS 5161. Application forms and instructions are available on the CDC Web site, at the following Internet address: http://www.cdc.gov/od/pgo/forminfo.htm. If you do not have access to the Internet, or if you have difficulty accessing the forms on-line, you may contact the CDC Procurement and Grants Office Technical Information Management Section (PGO-TIM) staff at: 700-488-2700. Application forms can be mailed to you.

IV.2. Content and Form of Submission

Letter of Intent (LOI): Your LOI must be written in the following format:

• Maximum number of pages: 1.

• Font size: 12-point unreduced.

• Single spaced.

• Paper size: 8.5 by 11 inches.

• Page margin size: One inch.

• Printed only on one side of page.

• Written in English, avoid jargon.

Your LOI must contain the following information:

• Name of national organization.

• Number of local chapters/affiliates.

• Number of currently funded Steps Communities with a local chapter of your organization.

• Contact person and information for organization.

Application: You must submit a project narrative with your application forms. The narrative must be submitted in the following format:

• Maximum number of pages: 35.

• Font size: 12 point unreduced.

• Paper size: 8.5 by 11 inches.

• Page margin size: One inch.

• Printed only on one side of page.

• Double spaced.

• Held together only by rubber bands or metal clips; not bound in any other way.

Your narrative should address activities to be conducted over the entire project period (4 years), and must include the following items in order listed:

1. Executive Summary. The Executive Summary should briefly describe the project, include relevant information from other sections, and the total budget amount requested. The Executive Summary should be no more than 2 pages.

2. Background information. This should include a description of the national and local organizational structure, the relationship between the national and local organizations, the types of activities conducted by the national and local organizations, and any other information that will assist reviewers in understanding the mission, reach and activities of the organization.

3. Understanding. Applicant should include information indicating an understanding of the Steps Initiative, the Steps Community Program, and the potential relationship of the national organization and its local chapters/affiliates to the Steps Community Program.

4. Objectives. Include budget period and project period objectives for your proposed plan.

5. Detailed plan for required activities. Include details of how your organization will accomplish the requirements described in this announcement. Include specific details about when and where national or regional meetings will occur, proposed curricula/agenda, proposed technical assistance activities, etc. Applicant should address Priority 1 or Priority 2 in addition to all required activities.

6. Timeline. Include a detailed timeline of activities corresponding to the proposed action plan.

7. Program Evaluation Plan. Identify methods for documenting progress toward achieving program goals and objectives, and monitoring activities consistent with budget, project period and workplan. The evaluation plan should include key evaluation questions, measurable objectives linked to program activities, quantitative and/or qualitative assessment mechanisms; the specific outcomes expected; the minimum information to be collected and the system(s) for reporting the information. The plan should follow the CDC's Framework for Program Evaluation in Public Health (http://www.cdc.gov/epo/mmwr/preview/mmwrhtml/rr4811a1.htm) and highlight strategies for including program stakeholders in the evaluation process. Moreover, evaluation activities should be coordinated with performance measurement activities to be specified by funded Steps communities.

8. Budget Justification. Budget Narrative and Justification will be counted in the stated page limit. If you are requesting indirect costs in your budget, you must include a copy of your indirect cost rate agreement. If your indirect cost rate is a provisional rate, the agreement should be less than 12 months of age.

The following types of additional information may be included in the application appendices. The appendices will not be counted toward the narrative page limit. Information included in appendices is limited to:

• Curriculum Vitae;

• Resumes;

• Organizational Charts;

• Letters of Support.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunaandbradstreet.com or call 1-866-705-5711.

For more information, see the CDC Web site at: http://www.cdc.gov/od/pgo/funding/pubcommt.htm. If your application form does not have a DUNS number field please write your DUNS number at the top of the first page of your application, and/or included your DUNS number in your application cover letter.

Additional requirements that may require you to submit additional documentation with your application are listed in section “V1.2. Administrative and National Policy Requirements”.

IV.3. Submission Dates and Times

LOI Deadline Date: May 14, 2004.

CDC requests that you send a LOI if you intend to apply for this program. Although the LOI is not required, not binding, and does not enter into the review of your subsequent application, the LOI will be used to gauge the level of interest in this program, and allow CDC to plan the application review.

Application Deadline Date: June 8, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supercedes information provided in the application instructions. If the application does not meet the deadline, above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Funds may not supplant existing funds from any other public or private source.

Awards will not allow reimbursement of pre-award costs.

Guidance for completing your budget can be found on the CDC Web site, at the following Internet address: http://www.cdc.gov/od/pgo/funding/budgetguide.htm.

IV.6. Other Submission Requirements

LOI Submission Address: Submit your LOI by express mail, delivery service, fax, or e-mail to: Juanika Mainor-Harper, MPH, CDC/NCCDPHP/Steps, 4770 Buford Highway, Mailstop-K41, Atlanta, GA 30341, telephone: 770-488-6452, fax: 770-488-6391, e-mail address: StepsInfo@cdc.gov.

Application Submission Address: Submit the original and two copies of your application by mail or express delivery service to: Technical Information Management—PA04134, CDC Procurement and Grants Office, 2920 Brandywine Road, Atlanta, GA 30341.

Applications may not be submitted electronically at this time.

V. Application Review Information

V.1 Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Plan (30 Points)

• Applicant should effectively address either Priority Area 1 or Priority Area 2 and all required activities as listed in the Activity section.

• Will the proposed plan accomplish the objectives set forth by the applicant?

• Will the plan support the Steps Community Program goals?

• Does the plan include collaboration with other local organizations in each of the Steps Communities?

• Does the plan account for activities in Steps Communities where no local chapters/affiliates of the national applicant organization exist?

• Is the timeline feasible?

• Do the activities coincide with the goals and objectives?

2. Organization (25 Points)

• Are the national and local organizational structures conducive to the support of the Steps Community Program?

• Does the organization have sufficient infrastructure and capacity to support and enhance the proposed activities?

• Does the organization have a history of success in conducting similar activities?

• Does the organization understand the Steps Community Program mission and the relationship between the Steps Communities and the national and local organizational structures?

• Does the applicant organization have the ability to host a national or regional meeting with key partners related to the Steps Initiative?

• Does the applicant organization have the ability to work within the community to develop viable evidence-based programs, interventions and/or programs related to the mission of the Steps Initiative that can be evaluated over the project period?

3. Program Evaluation Plan (20 Points)

• Does the program evaluation plan include core evaluation questions (both process and outcome), specific, time-phased, measurable objectives and indicators of progress?

• Does the program evaluation plan include detailed information about data collection, analysis, and reporting?

• Does the evaluation plan adequately speak to relevant standards for program evaluation planning, implementation, and the use of findings for program accountability and improvement?

4. Leadership or Governing Structure (15 Points)

• Applicant should demonstrate an effective governing structure within the organization that provides for effective leadership by members and effective day-to-day fiscal and operational management by competent full-time management staff, ensuring that members constitute the majority of committees and/or workshops assembled for the purpose of completing activities under this agreement.

5. Objectives (10 Points)

• Do the proposed objectives support the goals of the Steps Community Program?

• Are the proposed objectives reasonable and appropriate for the organization?

• Are the proposed objectives specific, measurable and time phased?

6. Budget (Not Scored)

Note: CDC may not approve or fund all proposed activities. Be precise about the program purpose of each budget item and itemize calculations wherever appropriate.

• Is the budget reasonable for accomplishing the proposed plan?

• Is there a detailed budget for each proposed activity with a justification of all operating expenses in relation to the planned activities and stated objectives?

• Is there a detailed explanation and justification for the use of contractor and consultants within the application budget? Is the organization or parties to be selected, method of selection and duties they will perform stated? Is a breakdown of and justification for the estimated costs of the contracts and consultants and a description of methods to be used for contract monitoring.

• Is the job description for each position, specifying job title, function, general duties, and activities included? Are salary ranges or rates of pay and the levels of effort and/or percentages of time to be spent on activities that would be funded through this cooperative agreement provided?

V.2. Review and Selection Process

Applications will be reviewed for completeness by the Procurement and Grants Office (PGO) staff and for responsiveness by NCCDPHP. Incomplete applications that are non-responsive to the eligibility criteria will not advance through the review process. Applicants will be notified that their application did not meet submission requirements.

An objective review panel will evaluate complete and responsive applications according to the criteria listed in the “V.1. Review Criteria” section above.

V.3. Anticipated Announcement and Award Dates

May 1, 2004.

VI. Award Administration Information

VI.1. Award Notices

Successful applications will receive a Notice of Grant Award (NGA) from the CDC Procurement and Grants Office. The NGA shall be the only binding, authorizing document between the recipient and CDC. The NGA will be signed by an authorized Grants Management Officer, and mailed to the recipient fiscal officer identified in the application.

Unsuccessful applicant will receive notification of the results of the application review by mail.

VI.2. Administration and National Policy Requirements

45 CFR parts 74 and 92.

For more information on the Code of Federal Regulations, see the National Archives and Records Administration at the following Internet address: http://www.access.gpo.gov/nara/cfr/cfr-table-search.html.

The following additional requirements apply to this project:

• AR-8—Public Health Systems Reporting Requirements

• AR-9—Paperwork Reduction Act Requirements

• AR-10—Smoke-Free Workplace Requirements

• AR-11—Healthy People 2010

• AR-12—Lobbying Restrictions

• AR-15—Proof of Non-Profit Status

Additional information on these requirements can be found on the CDC Web site at the following Internet address: http://www.cdc.gov/od/pgo/funding/ARs.htm.

Reporting Requirements: You must provide CDC with an original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report and annual progress report will be due no more than 90 days after the end of the budget period.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, telephone: 770-488-2700.

For program technical assistance, contact: Juanika Mainor-Harper, MPH, Centers for Disease Control and Prevention, 4770 Buford Highway, NE., Mailstop K-41, Atlanta, GA 30341, telephone: 770-488-6452, e-mail: StepsInfo@cdc.gov.

For financial, grants management, or budget assistance, contact: Ms. Sylvia Dawson, Procurement and Grants Office, Centers for Disease Control and Prevention, 2920 Brandywine Road, Atlanta, GA 30341-4146, telephone: 770-488-2771, e-mail address: snd8@cdc.gov.

VIII. Other Information

Common questions and answers about the Steps to a HealthierUS National Partnerships announcement can be found at: http://www.HealthierUS.gov/steps/.

This announcement, other CDC announcements, and the necessary forms for application can be found on the CDC Web site, Internet address: http://www.cdc.gov. Click on “Funding” then “Grants and Cooperative Agreements”.

Dated: April 19, 2004.
William P. Nichols,
Acting Director, Procurement and Grants Office, Centers for Disease Control and Prevention.

[FR Doc. 04-9238 Filed 4-22-04; 8:45 am]

BILLING CODE 4163-18-P